INTERNATIONAL TRADE COMMISSION

[Investigation No. 337-TA-1431]

Certain Nanolaminate Alloy Coated Metal Parts and Products Containing the Same; Notice of a Commission Decision Not To Review an Initial Determination Amending the Complaint and Notice of Investigation

AGENCY: U.S. International Trade Commission.

ACTION: Notice.

SUMMARY: Notice is hereby given that the U.S. International Trade Commission has determined not to review an initial determination (“ID”) of the presiding administrative law judge (“ALJ”) granting a motion to amend the complaint and notice of investigation to add seven additional respondents.

FOR FURTHER INFORMATION CONTACT: Sidney A. Rosenzweig, Office of the General Counsel, U.S. International Trade Commission, 500 E Street SW, Washington, DC 20436, telephone (202) 708-2532. Copies of non-confidential documents filed in connection with this investigation may be viewed on the Commission's electronic docket (EDIS) at https://edis.usitc.gov. For help accessing EDIS, please email EDIS3Help@usitc.gov. General information concerning the Commission may also be obtained by accessing its internet server at https://www.usitc.gov. Hearing-impaired persons are advised that information on this matter can be obtained by contacting the Commission's TDD terminal, telephone (202) 205-1810.

SUPPLEMENTARY INFORMATION: On January 22, 2025, the Commission instituted this investigation based on a complaint filed by Modumetal, Inc. of Snohomish, Washington (“Modumetal”). 90 FR 7704 (Jan. 22, 2025). The complaint alleged violations of section 337 of the Tariff Act of 1930, as amended, 19 U.S.C. 1337, based upon the importation into the United States, the sale for importation, and the sale within the United States after importation of certain nanolaminate alloy coated metal parts, components thereof, and products containing the same by reason of the infringement of certain claims of U.S. Patent No. 10,253,419 and U.S. Patent No. 11,242,613. Id. at 7704. The Commission instituted the investigation as to certain nanolaminate alloy coated metal parts and products containing the same. Id. at 7704 n.1. The Commission's notice of investigation named the following respondents: Parker Hannifin Corporation of Cleveland, Ohio; and Lu Chu Shin Yee Works Co., Ltd. of Kaoshing City, Taiwan (collectively, “Respondents”). Id. at 7704. The Office of Unfair Import Investigations is not a party to this investigation. Id.

On April 14, 2025, Modumetal moved to amend the complaint and notice of investigation to add the following proposed respondents: Jiangsu DVP Hi Press Tech Co. of Jiangsu, China; Kunshan Huizong Machine Co. of Jiangsu, China; Maxort Philippines Inc. of Laguna, Philippines; Paloma Turning Co. Pvt Ltd. of Karnataka, India; Shaoxing Xuantong Fluid Connectors Manufacturing Co., Ltd. of Zhejiang, China; Overseas International Group of Shanghai, China; and Zhejiang Unifull Industrial Fibre Co., Ltd. of Zhejiang, China.

On April 24, 2025, Respondents opposed the motion, arguing that Modumetal violated Commission Rule 210.14(b)(1) (19 CFR 210.14(b)(1)) by failing to properly serve the motion on the proposed respondents and for failing to show good cause for the amendment.

On May 8, 2025, the ALJ granted the motion as the subject ID (Order No. 13). The ID explains that the service issue arose because Respondents “insisted on redacting the names of the Proposed Respondents from the Amended Complaint.” ID at 5. The parties worked together to resolve the service issue. Id. at 5-6. The ID also finds that good cause exists for the amendment. Id. at 7.

No petitions for Commission review of the ID were filed. The Commission has determined not to review the ID.

The Commission vote for this determination took place on May 28, 2025.

The authority for the Commission's determination is contained in section 337 of the Tariff Act of 1930, as amended (19 U.S.C. 1337), and in part 210 of the Commission's Rules of Practice and Procedure (19 CFR part 210).

By order of the Commission.
Issued: May 28, 2025.
Lisa Barton,
Secretary to the Commission.

[FR Doc. 2025-09993 Filed 6-2-25; 8:45 am]

BILLING CODE 7020-02-P